DEPARTMENT OF THE INTERIOR

National Park Service

[NPS-WASO-NRNHL-16003; PPWOCRADI0, PCU00RP14.R50000]

National Register of Historic Places; Notification of Pending Nominations and Related Actions

Nominations for the following properties being considered for listing or related actions in the National Register were received by the National Park Service before June 7, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 10, 2014. Before including your address, phone number, email address, or other personal identifying information in your comment, you should be aware that your entire comment—including your personal identifying information—may be made publicly available at any time. While you can ask us in your comment to withhold your personal identifying information from public review, we cannot guarantee that we will be able to do so.

Dated: June 11, 2014.
J. Paul Loether,
Chief, National Register of Historic Places/National Historic Landmarks Program.

ARIZONA

Gila County

Thompson Draw Summer Homes Unit 1 Historic District, 221-584 Coyote Tr., 151-298 Ring Tail Way., 14-194 Blue Jay Cir., 150-297 Kit Fox Pass, Payson, 14000420

CALIFORNIA

Madera County

Buck Camp Patrol Cabin, (Yosemite National Park MPS) Jct. of Buck Cr. & Buck Camp Tr., Yosemite, 14000406

Mariposa County

Merced Lake High Sierra Camp, (Yosemite National Park MPS) Merced Lake, Yosemite, 14000407

Merced Lake Ranger Station, (Yosemite National Park MPS) Jct. of Merced Lake Tr. & Lewis Cr., Yosemite, 14000408

Ostrander Lake Ski Hut, (Yosemite National Park MPS) Ostrander Lake Tr., Yosemite, 14000409

Snow Creek Ski Hut, (Yosemite National Park MPS) Snow Cr., Yosemite, 14000410

Snow Flat Snow Survey Shelter, (Yosemite National Park MPS) Terminus of service road off May Lake Rd., Yosemite, 14000411

Sunrise High Sierra Camp, (Yosemite National Park MPS) John Muir Tr., Yosemite, 14000412

Vogelsang High Sierra Camp, (Yosemite National Park MPS) Fletcher Lake, Yosemite, 14000413

Tuolumne County

Frog Creek Cabin, (Yosemite National Park MPS) Lake Eleanor at Frog Creek, Yosemite, 14000414

Glen Aulin High Sierra Camp, (Yosemite National Park MPS) Near confluence of Conness Cr. & Tuolumne R., Yosemite, 14000415

Lake Vernon Snow Survey Shelter, (Yosemite National Park MPS) Terminus of Lake Vernon Tr., Yosemite, 14000416

May Lake High Sierra Camp, (Yosemite National Park MPS) May Lake, Yosemite, 14000417

Sachse Spring Snow Survey Shelter, (Yosemite National Park MPS) Off of Kibbie Ridge Tr. near Sachse Spring, Yosemite, 14000418

Tuolumne Meadows High Sierra Camp, (Yosemite National Park MPS) Tuolumne Meadows, Yosemite, 14000419

COLORADO

Rio Blanco County

Coal Creek School, (Rural School Buildings in Colorado MPS) 617 Cty. Rd. 6, Meeker, 14000421

Summit County

Masonic Placer Cemetery—Valley Brook Cemetery, 905 Airport Rd., Breckinridge, 14000422

MICHIGAN

Houghton County

Keweenaw Waterway Lower Entrance Light, (Light Stations of the United States MPS) S. end of breakwater at mouth of Portage R., Torch Lake Township, 14000426

Keweenaw Waterway Upper Entrance Light, (Light Stations of the United States MPS) E. breakwater Keweenaw Waterway, N. end, .4 mi. offshore, Hancock Township, 14000425

MISSOURI

Jasper County

Downtown Webb City Historic District, Roughly N. & S. Main, E. & W. Broadway, Daugherty, E. Church, N. Tom, N. Liberty, N. & S. Webb., Webb City, 14000427

OKLAHOMA

Pawnee County

Blue Hawk Peak Ranch (Boundary Increase), 1141 Pawnee Bill Rd., Pawnee, 14000428

SOUTH CAROLINA

Calhoun County

Lang Syne Plantation, 520 Lang Syne Rd., St. Matthews, 14000429

UTAH

Summit County

Doggy Door Tie Cutter Cabin, (Tie Cutting Industry of the North Slope of the Uinta Mountains MPS) Address Restricted, South Jordan, 14000431

WISCONSIN

Bayfield County

East Third Street Residential Historic District, E. 3rd St. from Central Ave. to 4th Ave. E., Washburn, 14000430

In the interest of preservation, a three day comment period has been requested for the following resources:

KENTUCKY

Jefferson County

Nelson Distillery Warehouse, 100 Distillery Commons Dr., Louisville, 14000423

Lewis County

Hammond—Queen House, 156 2nd St., Vanceburg, 14000424

[FR Doc. 2014-14770 Filed 6-24-14; 8:45 am]

BILLING CODE 4312-51-P